DEPARTMENT OF ENERGY

Federal Energy Regulatory Commission

Combined Notice of Filings

Take notice that the Commission has received the following Natural Gas Pipeline Rate and Refund Report filings:

Docket Numbers: RP13-451-000.

Applicants: Gulf Crossing Pipeline Company LLC.

Description: IT Discount Filing to be effective 2/17/2013.

Filed Date: 1/17/13.

Accession Number: 20130117-5026.

Comments Due: 5 p.m. ET 1/29/13.

Docket Numbers: RP13-452-000.

Applicants: Gulf South Pipeline Company, LP.

Description: IT Discount Filing to be effective 2/17/2013.

Filed Date: 1/17/13.

Accession Number: 20130117-5027.

Comments Due: 5 p.m. ET 1/29/13.

Docket Numbers: RP13-453-000.

Applicants: Texas Gas Transmission, LLC.

Description: IT Discount Filing to be effective 2/17/2013.

Filed Date: 1/17/13.

Accession Number: 20130117-5028.

Comments Due: 5 p.m. ET 1/29/13.

Docket Numbers: RP13-454-000.

Applicants: Petal Gas Storage, L.L.C.

Description: IT Discount Filing to be effective 2/17/2013.

Filed Date: 1/17/13.

Accession Number: 20130117-5029.

Comments Due: 5 p.m. ET 1/29/13.

Docket Numbers: RP13-455-000.

Applicants: Ozark Gas Transmission, L.L.C.

Description: Jan 2013 Cleanup Filing to Capitalize Defined Terms to be effective 2/17/2013.

Filed Date: 1/17/13.

Accession Number: 20130117-5030.

Comments Due: 5 p.m. ET 1/29/13.

Docket Numbers: RP13-456-000.

Applicants: Big Sandy Pipeline, LLC.

Description: Jan 2013 Cleanup Filing to Capitalize Defined Terms to be effective 2/17/2013.

Filed Date: 1/17/13.

Accession Number: 20130117-5049.

Comments Due: 5 p.m. ET 1/29/13.

Docket Numbers: RP13-457-000.

Applicants: Kinder Morgan Illinois Pipeline LLC.

Description: Penalty Revenue Crediting Report of Kinder Morgan Illinois Pipeline LLC.

Filed Date: 1/17/13.

Accession Number: 20130117-5104.

Comments Due: 5 p.m. ET 1/29/13.

Docket Numbers: CP13-29-000.

Applicants: Columbia Gas of Ohio, Inc.

Description: Columbia Gas of Ohio, Inc. application for a limited jurisdiction blanket certificate of public convenience and necessity, pursuant to Section 284.224 of the Commission.

File Date: 1/17/13.

Comments Due: 5 p.m. ET 1/28/13.

Docket Numbers: RP13-458-000.

Applicants: Trailblazer Pipeline Company LLC.

Description: Cancel 5th Revised Volume to be effective 2/18/2013.

Filed Date: 1/18/13.

Accession Number: 20130118-5001.

Comments Due: 5 p.m. ET 1/30/13.

Docket Numbers: RP13-459-000.

Applicants: Trailblazer Pipeline Company LLC.

Description: Trailblazer Baseline to Section based to be effective 2/18/2013.

Filed Date: 1/18/13.

Accession Number: 20130118-5002.

Comments Due: 5 p.m. ET 1/30/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-81-003.

Applicants: Caledonia Energy Partners, L.L.C.

Description: Caledonia Energy Partners, L.L.C. submits tariff filing per 154.203: Caledonia Correction to FERC Gas Tariff to Comply with FERC Order No. 587-V to be effective 12/1/2012.

Filed Date: 1/17/13.

Accession Number: 20130117-5145.

Comments Due: 5 p.m. ET 1/29/13.

Docket Numbers: RP12-813-001.

Applicants: Gulf South Pipeline Company, LP.

Description: Gulf South Pipeline Company, LP submits tariff filing per 154.203: Compliance Filing in RP12-813 to be effective 1/1/2013.

Filed Date: 01/18/2013.

Accession Number: 20130118-5138.

Comments Due: 5 p.m. ET 1/30/13.

Docket Numbers: RP12-814-001.

Applicants: Gulf Crossing Pipeline Company LLC.

Description: Gulf Crossing Pipeline Company LLC submits tariff filing per 154.203: Compliance filing in Docket No. RP12-814 to be effective 1/1/2013.

Filed Date: 1/18/13.

Accession Number: 20130118-5137.

Comments Due: 5 p.m. ET 1/30/13.

Docket Numbers: RP12-820-001.

Applicants: Texas Gas Transmission, LLC.

Description: Texas Gas Transmission, LLC submits tariff filing per 154.203: Compliance filing in Docket No. RP12-820 to be effective 1/1/2013.

Filed Date: 1/18/13.

Accession Number: 20130118-5139.

Comments Due: 5 p.m. ET 1/30/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 18, 2013.
Nathaniel J. Davis, Sr.,
Deputy Secretary.

[FR Doc. 2013-01505 Filed 1-24-13; 8:45 am]

BILLING CODE 6717-01-P